DEPARTMENT OF DEFENSE

Department of the Air Force

HQ USAF Scientific Advisory Board Meeting

The Summer General Board Meeting will meet in Irvine, California on June 18-29, 2001 from 8 a.m. to 5 p.m.

The purpose of the meeting is to draft initial findings and recommendations for each study. The meeting will be closed to the public in accordance with section 552b(c) of Title 5, United States Code, specifically subparagraphs (1) and (4) thereof.

For further information, contact the HQ USAF Scientific Advisory Board Secretariat at (703) 697-8404.

Janet A. Long,
Air Force Federal Register Liaison Officer.

[FR Doc. 01-12448 Filed 5-16-01; 8:45 am]

BILLING CODE 5001-05-P